FEDERAL COMMUNICATIONS COMMISSION

Notice of Public Information Collection(s) Being Reviewed by the Federal Communications Commission

March 8, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 18, 2001. If you anticipate that you will be submitting comments, but find it difficult to do so within the period of time allowed by this notice, you should advise the contact listed below as soon as possible.

ADDRESSES: Direct all comments to Judy Boley, Federal Communications Commission, Room 1-C804, 445 12th Street, SW, Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0939.

Title: E911, Second Memorandum Opinion and Order.

Form No.: N/A.

Type of Review: Extension of a currently approved collection.

Respondents: Businesses or other for-profit, not-for-profit institutions, state, local or tribal government.

Number of Respondents: 50.

Estimated Time Per Response: 1 hour.

Frequency of Response: On occasion reporting requirement.

Total Annual Burden: 50 hours.

Total Annual Cost: N/A.

Needs and Uses: In an effort to minimize delays in Enhanced 911 rule implementation, the Second Memorandum Opinion and Order provides that, in the case of disputes between wireless carriers and public safety answering points regarding E911 transmission methods or other technology, the parties involved may petition for Commission assistance in resolving their dispute. Thus, in order for the Commission to participate in negotiations, petitioners will have to provide the Commission with certain data concerning the dispute.

OMB Control No.: 3060-0959.

Title: Compatibility Between Systems and Consumer Electronics Equipment.

Form No.: N/A.

Type of Review: Extension of a currently approved collection.

Respondents: Businesses or other for-profit and not-for-profit institutions.

Number of Respondents: 102 respondents; 104 responses.

Estimated Time Per Response: 14-80 hours.

Frequency of Response: On occasion and semi-annual reporting requirements, and third party disclosure requirement.

Total Annual Burden: 1,720 hours.

Total Annual Cost: N/A.

Needs and Uses: The Report and Order imposes labeling requirements on digital television (DTV) receivers and other consumer electronics receiving devices. The requirements are designed to ensure that consumers understand the capability of digital television equipment to operate with cable television systems. The Report and Order also requires the cable and consumer electronics industries to report at intervals to the Commission on progress in implementing earlier agreements on technical standards for direct connection of digital television receivers to digital cable systems and on providing tuning and program scheduling information to support the navigation function of DTV receivers.

Federal Communications Commission.
Magalie Roman Salas,
Secretary.

[FR Doc. 01-6634 Filed 3-16-01; 8:45 am]

BILLING CODE 6712-01-P